FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Termination—12/11/2000
20010684 | Heerema Holding Company, Inc | INTEC Engineering Partnership, Ltd. | INTEC Engineering Partnership, Ltd.
20010892 | Cardinal Health, Inc | Martina Nowak | International Processing Corporation.
20010893 | Cardinal Health, Inc | Kenneth W. Olsen | International Processing Corporation.
20010898 | The Virginia Insurance Reciprocal | Healthcare Workers' Compensation Self-Insurance Fund | Healthcare Workers' Compensation Self-Insurance Fund.
20010912 | ABN AMRO Holding N.V | Trade.com Global Markets, Inc | Trade.com Global Markets, Inc
20010915 | Kerry J. Dukes | Trade.com Global Markets, Inc | Trade.com Global Markets, Inc
20010922 | Kamal Mustafa | Trade.com Global Markets, Inc | Trade.com Global Markets, Inc
Transactions Granted Early Termination—12/12/2000
20010909 | Matthew D. Castagna | Trade.com Global Markets, Inc | Trade.com Global Markets, Inc
20010925 | Bernard Arnault | Datek Online Holdings, Corp | The Island ECN, Inc
Transactions Granted Early Termination—12/13/2000
20010818 | General Electric Company | James A. Glaser | ACT Communications, Inc
Transactions Granted Early Termination—12/14/2000
20010563 | Eastman Kodak Company | Lumisys Incorporated | Lumisys Incorporated.
20010613 | Telecom Partners III, L.P | VeloCom Inc | VeloCom Inc
20010616 | Centennial Fund VI, L.P | VeleCom Inc | VeleCom Inc
20010703 | Wrenchead.com, Inc | Raymond J. and Lewena Noorda | Profit Pro, Inc
20010704 | Raymond J. Noorda and Lewena Noorda | Wrenchead.com, Inc | Wrenchead.com, Inc
20010722 | Trintech Group PLC | GlobeSet, Inc | GlobeSet, Inc J. Driscoll & Associates, Inc
20010731 | Lone Star Opportunity Fund, L.P | Greenbriar Corporation | Greenbriar Corporation.
20010750 | Iowa Farm Bureau Federation | The Kansas Farm Bureau | The Kansas Farm Bureau.
20010773 | NSB Retail Systems PLC | 3068358 Canada Inc | STS Systems, Inc
20010775 | TeleCorp PCS, Inc | ALLTEL Corporation | ALLTEL Communications, Inc
20010776 | The Kansas Farm Bureau | Iowa Farm Bureau Federation | FBL Financial Group, Inc
20010778 | The McGraw-Hill Companies, Inc | Mayfield Publishing Company | Mayfield Publishing Company.
20010782 | First Data Corporation | Wells Fargo & Company | Wells Fargo Merchant Services, LLC.
20010808 | Scott Kurmit | PRIMEDIA Inc | PRIMEDIA Inc
20010824 | Weyerhaeuser Company | Williamette Industries, Inc | Willamette Industries, Inc
20010897 | MDMI Holdings, Inc | American Technical Molding, Inc | American Technical Molding, Inc
Transactions Granted Early Termination—12/15/2000
20003935 | The Valspar Corporation | Lilly Industries, Inc | Lilly Industries, Inc
20004870 | Transocean Sedco Forex Inc | R&B Falcon Corporation | R&B Flcon Corporation.
20010334 | Kinder Morgan Energy Partners, L.P | NOVA Chemicals Corporation | NOVA Chemicals Corporation.
20010483 | French Fragrances, Inc | Unilever N.V | Conopco, Inc
20010611 | Summer M. Redstone | Robert L. Johnson | BET Holdings II, Inc
20010659 | Pierre Fabre | Alain Merieux | bioMerieux Alliance, SA.
20010817 | Wind Point Partners IV, L.P | SMR ECR Holding, Inc | Alexandria Sports, Inc, Burke Sports, Inc Eden Sports, Inc, Leesburg Sports, Inc, Trumbull PT Corp SMR Banyan Tree, Inc, Professional rehab Associates, Inc
20010826 | Global TeleSystem Inc | MCT of Russia, L.P | MCT Corp
20010827 | Varco Innternational, Inc | The Beacon Group Energy Investment Fund, L.P | Quality Tubing, Inc
20010831 | Cisco Systems, Inc | Active Voice Corporation | Active Voice Corporation.
20010837 | Dycom Industries, Inc | Point to Point Communications, Inc | Point to Point Communications, Inc
20010854 | Dr. Roy J. Shanker | Waste Management, Inc | Signal Capital Sherman Station One Inc Signal Capital Sherman Station, Inc Waste Management, Inc Wheelabrator Cum Services, Inc Wheelabrator Frackville Energy Company Inc Wheelabrator Frackville Properties Inc Wheelabrator Fuel Services, Inc Wheelabrator Hudson Energy Company, Inc Wheelabrator Lassen Inc Wheelabrator Martell Inc Wheelabrator NHC Inc Wheelabrator Polk Inc Wheelabrator Ridge Energy Inc Wheelabrator Shasta Energy Company, Inc Wheelabrator Sherman Station Two Inc
20010855 | Duke Energy Corporation | Waste Management, Inc | Signal Capital Sherman Station One Inc Signal Capital Sherman Station, Inc Waste Management, Inc Wheelabrator Cum Services, Inc Wheelabrator Frackville Energy Company Inc Wheelabrator Frackville Properties Inc Wheelabrator Fuel Services, Inc Wheelabrator Hudson Energy Company Inc Wheelabrator Lassen Inc Wheelabrator Martell Inc Wheelabrator NHC Inc Wheelabrator Polk Inc Wheelabrator Ridge Energy Inc Wheelabrator Shasta Energy Company, Inc Wheelabrator Sherman Station Two Inc
20010856 | Duke Energy Corporation | BTA Holdings, Inc | BTA Holdings, Inc
20010871 | Carson/LIN SBS, L.P | Western New York Public Broadcasting Association | Western New York Public Broadcasting Association.
20010872 | Joe Fojtasek | Western New York Public Broadcasting Association | Western New York Public Broadcasting Association.
20010981 | Metsaliito Osuuskunta | International Paper Company | International Paper Deutschland, Inc
Transactions Granted Early Termination—12/18/2000
20010764 | Equilease Holding Corp | Delta, plc | Delta America Inc, United Power Corporation.
20010843 | PJM Interconnection, L.L.C. | Conectiv | Conectiv.
20010903 | Spectrum Holding, Inc | BP Amoco p.l.c. | BP Amoco p.l.c.
20010919 | Pharmaceutical Product Development Inc | Axys Pharmaceuticals, Inc | PPGx, Inc
20010931 | Maurice B. Tose | XYPOINT Corporation | XYPOINT Corporation.
Transactions Granted Early Termination—12/19/2000
20010691 | Froedtert Health Systems, Inc | Community Health Care Services of Menomonee Falls, Inc | Community Health Care Services of Menomonee Falls, Inc
20010729 | Bruce Wasserstein | Dresdner Bank AG | Dresdner Bank AG.
20010780 | Stephen Adams | PNE Media Holdings, LLC | PNE Media, LLC.
20010802 | eVolution Global Partners L.P | American Express Company | MarketMile, Inc
20010836 | Manafort Brothers, Inc | Allied Waste Industries, Inc | American Disposal Services of Missouri, Inc
20010838 | Hunting PLC | Estate of Charles A. Sammons | Composite Thread Protectors, Inc Vinson Supply Company.
20010841 | C-MAC Industries Inc | Honeywell International, Inc | Honeywell International, Inc
20010842 | Alec E. Gores | Honeywell International Inc | Honeywell International Inc
20010850 | Tyco International Ltd | Eaton Corporation | Eaton Corporation.
20010851 | Hick, Muse, Tate & Furst Equity Fund III, L.P | ABFM Corporation | ABFM Corporation.
20010852 | Willis Stein & Partners II, L.P | Anthony G. Telese | Quality Metal Works, Inc
20010862 | SPX Corporation | Ray Ryan and Nancy Ryan | Central Tower, Inc Ryan Construction, Inc
20010863 | Zahren Alternative Power Corporation | Northeast Utilities | Countryside Genco, LLC, Countryside Landfill Gasco, LLC. Morris Genco, LLC, Morris Gasco, LLC.
20010876 | Thomas Weisel Capital Partners, L.P | Innovance, Inc | Innovance, Inc
20010906 | Johnson & Johnson | SK Corporation | SK Corporation.
20010917 | InterCept Group, Inc (The) | Shrigovin Misir | ICPT, LLC. SLMsoft.com, Inc
20010923 | Reuters Group plc | Pearson plc | Financial Times Energy, Inc
20010934 | Artisan Components, Incorporated | Synopsys Incorporated | Synopsys Incorporated.
20010961 | Republic Services, Inc | Allied Waste Industries, Inc | BFI Waste Systems of North America, Inc
20010983 | Limestone Electron Trust | El Paso Energy Corporation | West Georgia Generating Company, L.L.C.
20010986 | Nokia Corporation | Ramp Networks, Inc | Ramp Networks, Inc
Transactions Granted Early Termination—12/20/2000
20003903 | Computer Sciences Corporation | Policy Management Systems Corporation | Policy Management Systems Corporation.
20010672 | The B.F. Goodrich Company | Raytheon Company | Raytheon Optical Systems.
20010765 | Danaher Corporation | Equilease Holding Corp. | United Power Corporation.
20010792 | Highland Holdings | Brian L. Roberts | Comcast Corporation.
20010793 | Brian L. Roberts | Highland Holdings | Highland Holdings.
20010796 | Harry J. Pappas | Thomas O. Hicks | Southwest Sports Television, L.P
20010866 | SSPS Inc | ShowCase Corporation | ShowCase Corporation.
20010869 | Radian Group Inc | Enhance Financial Services Group Inc | Enhance Financial Services Group Inc
20010870 | Morgenthaler Partners VI, L.P | Innovance, Inc | Innovance, Inc
20010874 | The AES Corporation | Andrew R. Fellon | Fellon-McCord & Associates, Inc, Alliance Gas Services, Inc
20010875 | The AES Corporation | John C. McCord | Fellon-McCord & Associates, Inc, Alliance Gas Services, Inc
20010877 | Azure Capital Partners | Innovance, Inc | Innovance, Inc
20010904 | Cree, Inc | Spectrian Corporation | Spectrian Corporation.
20010907 | Enron Corp. | Dr. Roy J. Shanker | Cabazon Holdings, LLC. Victory Garden Power Partners LLC.
20010910 | Germain Motor Company | Richard F. Ruhl | Dick Ruhl Ford Sales, Inc
20010911 | FL Selenia S.a.r.l | Pennzoil-Quaker State Company. | Pennzoil-Quaker State Company.
20010913 | Jim Ratcliffe | Imperial Chemical Industries Plc | Chlor-Chemicals Businesses, Klea and Crosfield businesses.
20010920 | Pequot Private Equity Fund II, L.P | Everest Broadband Networks, Inc | Everest Broadband Networks, Inc
20010921 | Leap Wireless International, Inc | Century Tel, Inc | MVI Corp., Inc, Century Personal Access Network, Inc
20010924 | Pogo Producing Company | NORIC Corporation | NORIC Corporation.
20010926 | Capital One Financial Corporation | InnoVentry Corp. | InnoVentry Corp.
20010928 | Tyco International Ltd. | Simplex Time Recorder Business Trust | Simplex Time Recorder Business Trust.
20010929 | Twin City Co-ops Federal Credit Union | Pioneer Plus Federal Credit Union | Pioneer Plus Federal Credit Union.
20010932 | Audax Private Equity Fund, L.P | Patrick J. Purcell | Herald Media, Inc
20010933 | Weston Presidio Captial IV, L.P | Patrick J. Purcell | Herald Media, Inc
20010937 | SCI Systems, Inc | Telefonaktiebolaget L M Ericsson | Ericsson, Inc
20010940 | Telecom Partners III, L.P | Formus Communications, Inc | Formus Communications, Inc
20010942 | Finisar Corporation | Shomiti Systems, Inc | Shomiti Systems, Inc
20010945 | 724 Solutions, Inc | TANTAU Software, Inc | TANTAU Software, Inc
20010980 | The Huron Fund LP | Jordan Industries, Inc | Riverside Book and Bible House Incorporated. World Bible Publishers, Inc
Transactions Granted Early Termination—12//21/2000
20010763 | El Paso Energy Corporation | PG&E Corporation | PG&E Gas Transmission Teco, Inc PG&E Gas Transmission, Texas Corporation.
20010433 | Thoratec Laboratories Corporation | Thermo Electron Corporation | Thermo Cardiosystems Inc
20010436 | Thermo Electron Corporation | Thoratec Laboratories Corporation | Thoratec Laboratories Corporation.
20010751 | Biovail Corporation | Aventis | Aventis Pharma, Inc. Aventis Pharmaceuticals Inc.
20010908 | Franciscan Services Corporation | Franciscan Sisters of the Poor | The Franciscan at St. Leonard.
20010947 | London Bridge Software Holdings plc | Phoenix International Ltd., Inc | Phoenix International A.P. New Zealand. Phoenix International New York, Inc.
20010948 | Institutional Venture Partners VIII, L.P. | Homestead.com, Inc | Homestead.com,Inc.
Transactions Granted Early Termination—12/22/2000
20010676 | Vallence Technology, Inc | Science Applications International Corporation | Telcordia Technologies, Inc.
20010677 | Science Applications International | Valence Technology, Inc | Valence Technology, Inc.
20010800 | The B.F. Goodrich Company | Autoliv, Inc | OEA Aerospace, Inc.
20010873 | MediaNews Group, Inc | AT&T Corp | Kearns-Tribune, LLC.
20010878 | Paul Marciano | Guess?, Inc | Guess?, Inc.
20010879 | Armand Marciano | Guess?, Inc | Guess?, Inc.
20010883 | Yodlee.com, Inc | S1 Corporation | VerticalOne Corporation.
20010884 | S1 Corporation | Yodlee.com, Inc | Yodlee.com, Inc.
20010887 | Ferro Corporation | Imperial Chemical Industries, PLC | Indpoco Inc. (d/b/a/National Starch and Chemical Company).
20010889 | Robert G. Liggett, Jr | Louis Elias | Elias Brothers Restaurants, Inc.
20010890 | North Shore Long Island Jewish Health System, Inc | Doctors' Hospital of Staten Island, Inc | Doctors' Hospital of Staten Island, Inc.
20010891 | William A. Robinson | DHL International Limited | DHL International Limited.
20010894 | Amerada Hess Corporation | LASMO plc | LASMO plc.
20010895 | The Regence Group | Northwest Washington Medical Bureau | Northwest Washington Medical Bureau.
20010899 | Verizon Communication Inc | ALLTEL Corporation | ALLTEL Communications, Inc.
20010901 | Reilly Family Limited Partnership | Thomas Leclair | American Outdoor Advertising LLC.
20010902 | Reilly Family Limited Partnership | Jonathan Levine | American Outdoor Advertising LLC.
20010938 | The Procter & Gamble Company | Dr. Johns Products, Ltd | Dr. Johns Products, Ltd.
20010946 | Exelon Corporation | Richard E. Wenniger | The Wenninger Company, Inc.
20010949 | Tyco International Ltd | Rollin W. Mettler, Jr | Mechatronics, L.L.C. Molded Interconnect Device, LLC.
20011950 | Tyco International, Ltd | John H. Mettler | Mechatronics, L.L.C. Molded Interconnect Device, LLC.
20010951 | State Automobile Mutual Insurance Company | Meridian Mutual Insurance Company | Meridian Mutual Insurance Company.
20010952 | Delta Galil Industries, Ltd | Norton Sloan | Inner Secrets Inc.
20010956 | Advance Food Company | Cargill, Inc. | Excel Corporation.
20010957 | Cargill, Incorporated | Advance Food Company | Advance Retail Holdings, Inc.
20010964 | State Automobile Mutual Insurance Company | Meridian Insurance Group, Inc | Meridian Insurance Group, Inc.
20010965 | The Royal Bank of Scotland Group plc | Rolls-Royce plc | Certified Alloy Products, Inc. Trucast Inc. Ross Catherall Group plc and Ross & Catherall Limited. Trucast Limited, Vickers Engineering plc.
20010969 | Verizon Communications Inc | James E. Douglas, Jr. and Jean A. Douglas | HLD Cellular Corporation.
20010973 | James A. Radley | Royal & Sun Alliance Insurance Group plc | Alliance Assurance Company of America.
20010974 | Affiliated Computer Services, Inc | Tyler Technologies, Inc | Business Resources Corporation Capital Commerce Reporter, Inc. Government Records Services, Inc. PRETS Holdings, Inc. RAM Quest Software, Inc. RTS Holdings, Inc. Title Records Corporation.
20010978 | Anadarko Petroleum Corporation | Western Gas Resources, Inc | Pinnacle Gas Treating, Inc.
20010982 | The SKM Equity Fund III, L.P | Whole Duty Investment, Ltd | Viewpoint International, Inc.
20010985 | New York University | The Grand Union Company (debtor-in-possession) | The Grand Union Company (debtor-in-possession).
20010987 | DLJ Merchant Banking Partners III, L.P | Credit Suisse Group | Focus Technologies, Inc.
20010988 | Medisys PLC | Chronimed Inc | MEDgenesis Inc.
20010989 | Paul B. Prager | The Montana Power Company | Continental Energy Services, Inc.
20010990 | William E. Bindley | Cardinal Health, Inc | Cardinal Health, Inc.
20010992 | Safeway Inc | Genuardi's Willco, Inc | Genuardi's Willco, Inc.
20010995 | Agilera.com, Inc | Applicast, Inc | Applicast, Inc.
20010996 | Leica Geosystems Holdings AG | Dennis F. Nardoni | Laser Alignment, Inc.
20010997 | Reinhard Mohn | Mortimer B. Zuckerman | F.C. Holdings, L.L.C. Fast Company Media, LLC.
20010998 | Gerald W. Schwartz | I and K Distributors, Inc | I and K Distributors, Inc.
20010999 | International Rectifier Corporation | Unisem, Inc | Unisem, Inc.
20011000 | Agilent Technologies, Inc | Objective Systems Integrators, Inc | Objective systems Integrators, Inc.
20011001 | SEACOR SMIT Inc | Philip G. & Judy C. Plaisance | Plaisance Marine Inc., LaSalle Offshore Inc. Seahorse Marine Inc.
20011002 | L-3 Communications Holdings, Inc. | Thermo Electron Corporation | Coleman Research Corporation.
20011005 | GATX Corporation | Rolls-Royce Plc. | Pembroke Group Limited.
20011008 | Sesame Workshop | EM. TV & Merchandising AG | The Jim Henson Company, Inc.
20011011 | GTFC Equity Investors, L.L.C. | MicroAge, Inc. | MicroAge Technology Services, L.L.C.
20011013 | Reed International P.L.C. | George Schussel | DCI Management, Inc. DCI Massachusetts Business Trust. IT Media Group, Inc. O&P Incorporated. Software Lists, Inc.
20011014 | Elsevier NV | George Schussel | DCI Management, Inc. DCI Massachusetts Business Trust. IT Media Group, Inc. O&P Incorporated. Software Lists, Inc.
20011017 | Nextel Communications, Inc. | Chadmoore Wireless Group, Inc. | Chadmoore Wireless Group, Inc.
20011018 | Constellation Brands, Inc. | Daniel R. Baty | Corus Brands, Inc.
20011032 | Odyssey Investment Partners Fund, L.P. | Jeffrey D. Church | Trevecca Holdings, Inc.
20011036 | Nordea Plc | Christiania Bank og Kreditkasse ASA | Christiania Bank og Kreditkasse ASA.
20011037 | SEACOR SMIT Inc. | Rincon Marine, Inc. | Rincon Marine, Inc.
20011038 | NextMedia Investors LLC | NextMedia Group II, Inc. | NextMedia Group II, Inc.
20011039 | Plum Creek Timber Company, Inc. | Plum Creek Manufacturing Holding Company, Inc | Plum Creek Manufacturing Holding Company, Inc.
20011043 | National Software Corporation | Catapulse, Inc. | Catapulse, Inc.
20011045 | Centrica plc | Sempra Energy | Energy America LLC.
20011046 | Kingspan Group plc | Daniel and Patricia Baker, husband and wife | Tate Global Corporation.
20011048 | Francisco Partners, L.P. | marchFirst, Inc | marchFirst, Inc.
20011050 | Krug International Corp. | Charterhouse Equity Partners, II, L.P. | Southern Health Corp./Clanton Hospital, Inc./Dexter Hospital.
20011052 | Microsoft Corporation | USinternetworking, Inc | USinternetworking, Inc.
20011057 | Bodycote International plc | Lindberg Corporation | Lindberg Corporation.
20011059 | Medline Industries, Inc. | Sun Healthcare Group, Inc. | Sun Healthcare Group, Inc.
20011060 | The Drees Company | Allen G. Zaring, III | Zaring Homes, Inc., Zaring Homes of Indiana LLC. Zaring National Corporation.
20011064 | Mott MacDonald Group Limited | Thermo Electron Corporation | The Killam Group Inc.
20011065 | IAWS Group plc | Marvin M. Schwan | Orion Food Systems International, Inc.
20011072 | Stone Energy Corporation | Basin Exploration, Inc. | Basin Exploration, Inc.
20011074 | Toyota Automatic Loom Works, Ltd. | Toyota Motor Corporation | Toyota Motor Sales U.S.A., Inc. Toyota-Lift of Los Angeles, Inc.
20011077 | The Auto Club Group f/k/a/ AAA Michigan/Wisconsin, Inc | Cornhusker Motor Club | Cornhusker Motor Club.
20011082 | Caterpillar Inc. | J. Garner Scott | Federal Financial Services, Inc. IronMart, Inc. Pioneer Machinery, Inc.
20011095 | Boston Ventures Limited Partnership V | Jeremiah J. Harris | Production Resource Group, L.L.C., Signal Perfection, Ltd.

FOR FURTHER INFORMATION CONTACT: Sandra M. Peay or Parcellena P. Fielding, Contact Representatives, Federal Trade Commission, Premerger Notification Office, Bureau of Competition, Room 303, Washington, DC 20580, (202) 326-3100.

By Direction of the Commission.
Donald S. Clark,
Secretary.

[FR Doc. 01-1169 Filed 1-12-01; 8:45 am]

BILLING CODE 6750-01-M